DEPARTMENT OF THE INTERIOR

National Park Service

Preservation Technology and Training Board Charter Renewal

AGENCY: National Park Service, Interior.

ACTION: Notice of Committee Renewal.

SUMMARY: This notice is published in accordance with Section 9(a) of the Federal Advisory Committee Act of 1972 (5 U.S.C. Appendix). Following consultation with the General Services Administration, notice is hereby given that the Secretary of the Interior has formally renewed the Preservation Technology and Training Board to provide advice and professional oversight to the Secretary and the National Center for Preservation Technology and Training, as authorized by Title IV, Section 404 of Public Law 102-575, October 30, 1992. The specific duties of the Board are to (1) provide leadership, policy advice, and professional oversight to the Center; (2) advise the Secretary on priorities and the allocation of grants among the activities of the Center; and (3) submit an annual report to the President and the Congress.

FOR FURTHER INFORMATION CONTACT: Kirk Cordell, Executive Director, National Center for Preservation Technology and Training, National Park Service, 645 College Avenue, Natchitoches, Louisiana 71457, (318) 356-7444.

Dated: June 3, 2009.
Ken Salazar,
Secretary of the Interior.

[FR Doc. E9-14590 Filed 6-19-09; 8:45 am]

BILLING CODE P